DEPARTMENT OF ENERGY

Federal Energy Regulatory Commission

[Docket No. RP99-466-004]

Great Lakes Gas Transmission Limited Partnership; Notice of Proposed Changes in FERC Gas Tariff

December 7, 2000.

Take notice that on November 30, 2000, Great Lakes Gas Transmission Limited Partnership (Great Lakes) tendered for filing as part of its FERC Gas Tariff, Second Revised Volume No. 1, the tariff sheets listed on Appendix A of the filing, to be effective January 1, 2001.

Great Lakes states that these tariff sheets are being filed to comply with the Commission's Order No. 587-I issued on September 29, 1998, in Docket No. RM96-1-009. 84 FERC ¶ 61,328 (1998). The proposed sheets reflect the necessary revisions to Great Lakes' tariff to reflect the completion of Great Lakes' transition to Internet communications.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31847 Filed 12-13-00; 8:45 am]

BILLING CODE 6717-01-M